ENVIRONMENTAL PROTECTION AGENCY

[FRL-7071-8]

Agency Information Collection Activities: Submission for OMB Review; Comment Request; Submission for OMB Review; Comment Request; Reporting and Recordkeeping Requirements Under EPA's Natural Gas STAR Program

AGENCY: Environmental Protection Agency (EPA).

ACTION: Notice.

SUMMARY: In compliance with the Paperwork Reduction Act (44 U.S.C. 3501 et seq.), this notice announces that the following Information Collection Request (ICR) has been forwarded to the Office of Management and Budget (OMB) for review and approval: “Reporting and Recordkeeping Requirements under EPA's Natural Gas STAR Program,” OMB Control Number 1736.03, and expiration date September 30, 2004. The ICR describes the nature of the information collection and its expected burden and cost; where appropriate, it includes the actual data collection instrument.

DATES: Comments must be submitted on or before November 5, 2001.

ADDRESSES: Send comments, referencing EPA ICR No. 1736.03 and OMB Control No. 2060-0328, to the following addresses: Susan Auby, U.S. Environmental Protection Agency, Collection Strategies Division (Mail Code 2822),1200 Pennsylvania Avenue, NW, Washington, DC 20460; and to Office of Information and Regulatory Affairs, Office of Management and Budget (OMB), Attention: Desk Officer for EPA, 725 17th Street, NW, Washington, DC 20503.

FOR FURTHER INFORMATION CONTACT: For a copy of the ICR contact Susan Auby at EPA by phone at (202) 260-4901, by e-Mail at auby.susan@epamail.epa.gov, or download off the Internet at http://www.epa.gov/icr and refer to EPA ICR No. 1736.03. For technical questions about the ICR contact Paul M. Gunning at 202-564-9736 or gunning.paul@epa.gov.

SUPPLEMENTARY INFORMATION: Title: “Recordkeeping and Reporting Requirements under EPA's Natural Gas STAR Program.” (OMB Control No. 2060-0328; EPA ICR No. 1736.03) expiring September 30, 2001. This is a request for extension of a currently approved collection.

Abstract: Natural Gas STAR is an EPA-sponsored, voluntary program that encourages natural gas companies to adopt cost effective methods for reducing methane emissions. Natural Gas STAR Partners agree to implement cost effective Best Management Practices (BMPs), which will both save participants money and improve the protection of the environment. EPA needs to collect information to establish program participation and to obtain general information on new Natural Gas STAR Partners. EPA also uses the information collection to evaluate a Partner's progress and performance, assess overall program results, and to develop technical materials to facilitate implementation. Participation in the Natural Gas STAR program is voluntary.

Natural Gas STAR Partners may designate information submitted under this ICR as confidential business information. EPA will treat all such information as confidential business information and will not make the company or agency-specific information collected under this ICR available to the general public. An agency may not conduct or sponsor, and a person is not required to respond to, a collection of information unless it displays a currently valid OMB control number. The OMB control numbers for EPA's regulations are listed in 40 CFR part 9 and 48 CFR chapter 15. The Federal Register notice required under 5 CFR 1320.8(d), soliciting comments on this collection of information was published on May 29, 2001, (66 FR 29126). No comments were received.

Burden Statement: The annual public reporting and recordkeeping burden for this collection of information is estimated to average 41 hours per facility. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owners/operators of natural gas plants.

Estimated Number of Respondents: 98.

Frequency of Response: 120.

Estimated Total Annual Hour Burden: 4,059 hours.

Estimated Total Annualized Capital and Operating and Maintenance Cost Burden: $480.

Send comments on the Agency's need for this information, the accuracy of the provided burden estimates, and any suggested methods for minimizing respondent burden, including through the use of automated collection techniques to the addresses listed above. Please refer to EPA ICR No. 1736.03 and OMB Control No.2060-0328 in any correspondence.

Dated: September 24, 2001.
Oscar Morales,
Director, Collection Strategies Division.

[FR Doc. 01-24899 Filed 10-3-01; 8:45 am]

BILLING CODE 6560-50-P